DEPARTMENT OF AGRICULTURE

Foreign Agricultural Service

Notice of Request for Approval of a New Information Collection

AGENCY: Foreign Agricultural Service, USDA.

ACTION: Notice and request for comments.

SUMMARY: In accordance with the Paperwork Reduction Act of 1995 (44 U.S.C. Chapter 35), this notice announces the intention of the Foreign Agricultural Service to request approval for a new information collection for General Administrative Policy for Agreements to Conduct International Agricultural Research, Extension and Teaching Activities.

DATES: Comments on this notice must be received by November 14, 2014 to be assured of consideration.

Additional Information or Comments: Contact: Chris Coppenbarger, Grants Management Officer, Office of the Chief Operating Officer, MS-3118, U.S. Department of Agriculture, 1400 Independence Ave. SW., Washington, DC 20250; Tel: (202) 720-2568, Fax: (202) 690-4029, Email: christopher.coppenbarger@fas.usda.gov.

SUPPLEMENTARY INFORMATION: The Foreign Agricultural Service (FAS) of the United States Department of Agriculture (USDA) intends to establish uniform guidelines for the use, award and administration of agreements entered into by FAS to conduct international agricultural research, development, extension and teaching activities awarded under the authority of 7 U.S.C. 3291(a), and subsequently to publish regulations on the use, award, and administration of such agreements. The intended effect is to issue agency regulations that reflect current statutory authority and long-held agency business practices.

Title: General Administrative Policy for Agreements to Conduct International Agricultural Research, Extension and Teaching Activities.

OMB Number: 0551—New.

Expiration Date of Approval: Three years from approval date.

Type of Request: New information collection.

Estimate of Burden: Public reporting burden for this collection of information is estimated to average 4.0 hours per response.

Type of Respondents: Land-grant colleges and universities, Hispanic-serving agricultural colleges and universities, other colleges and universities, the Agency for International Development, international organizations (such as the United Nations, the World Bank, regional development banks, international agricultural research centers), transitional and more advanced countries, Departments and Ministries of Agriculture in other nations or other organizations, institutions, or individuals.

Estimated Number of Respondents: 105.

Estimated Number of Responses: 315.

Estimated Total Annual Burden on Respondents: 1,260 hours.

Copies of this information collection can be obtained from Connie Ehrhart, the Agency Information Collection Coordinator, at (202) 690-1578 or email at Connie.Ehrhart@fas.usda.gov.

Abstract: This information collection is required to support the planned FAS guidelines and regulations regarding “General Administrative Policy for Agreements to Conduct International Agricultural Research, Extension and Teaching Activities” under 7 U.S.C. 3291(a). These guidelines establish the requirements for participation in the following FAS programs listed in the Catalog of Federal Domestic Assistance: 10.613, Faculty Exchange Program; 10.614, Scientific Cooperation Exchange Program with China; 10.960, Technical Agricultural Assistance; 10.961, Scientific Cooperation and Research Program. This information collection is necessary for FAS to manage, plan, and evaluate these programs and to ensure the proper and judicious use of government resources. Without the information collection, FAS would not be able to conduct any of the activities falling under the authorities and instruments listed above (i.e., the agency would not be able to develop projects, make or receive payments, monitor projects, identify financial and accounting errors, report to www.usaspending.gov, etc.).

FAS will determine the specific means of collection that will be used based on the availability of technology and, as applicable, (1) an informal agreement of FAS and the respondent, (2) the terms of a signed agreement between FAS and the respondent, or (3) the provision of written, procedural rules made publicly available by FAS to the respondent. The information will be collected via phone calls, emails, fax, postal mail, person-to-person meetings, as data entry into grant management system(s)), and/or any other commonly used means of communication available to both parties. FAS will encourage the respondent to use modern information technology to reduce the administrative burden whenever possible. Respondents that meet user criteria and choose to utilize the FAS's electronic grants management system will not be required to provide duplicate information for subsequent or current transactions. Any party may initiate a conversation at any time to discuss the possibility of entering into these agreements. FAS uses the following forms to obtain information from respondents (program applicants and awardees) regarding their eligibility for, and participation in, its programs:

1. Form FAS-2013-240-001, Grant Agreement Template for Foreign Entities and Attachment A Provisions

2. Form FAS-2013-240-002, Cooperative Agreement and Attach. A Provisions

3. Form FAS 2013-240-009, FAS Grants & Agreements Application Cover Sheet

4. Form FAS-2013-240-007, Modification Form

5. Form FAS 2013-240-010, Closeout (Modification) of Award

6. Form FAS 2013-240-011, FAS Detailed Budget Form

7. Form FAS 2013-240-012, FAS Project Description Form

8. Form FAS 2013-240-013, FAS Grants & Agreements Overseas Application Cover Sheet

9. Form FAS 2013-240-014, Fixed Amount Award Template

10. Form FAS 2013-240-015, Foreign Assistance Notice of Award

11. Form FAS-2013-240-016, Amendment to Foreign Assistance Notice of Award

12. Form FAS-2014-240-018, Cooperative Agreement Template for Foreign Entities

13. Form FAS-2014-240-019, Grants Agreement Template for PIO

14. Form FAS-2014-240-020, Cooperative Agreement Template for PIO

15. Form FAS-2014-240-017, Proposal Executive Summary Form

16. Form AD-1047, Certification Regarding Debarment, Suspension, & other Responsibility Matters—Primary Covered Transactions

17. Form AD-1048, Certification Regarding Debarment, Suspension, & other Responsibility Matters—Lower Tier Covered Transactions

18. Form AD-1049, Certificate Regarding Drug Free Workplace Requirements Alternative 1—Non-Individuals

19. Form AD-1050, Certificate Regarding Drug Free Workplace Requirements Alternative 2—Individuals

20. Form AD-1052, Certificate Regarding Drug Free Workplace Requirements—State and State Agencies

21. Form SF-424, Application for Federal Assistance (Approved under 4040-0004)—Discretionary Common Form

22. Form SF-424, Application for Federal Assistance (Approved under 4040-0005)—Individual Common Form

23. Form SF-LLL, Disclosure of Lobbying Activities

24. Form AD-3030, Representations Regarding Felony Conviction and Tax Delinquent Status, OMB Control Number 0505-0025

25. Form AD-3031, Assurance Regarding Felony Conviction or Tax Delinquent Status, OMB Control Number 0505-0025

26. Form SF-424A OR SF-424C, Budget Information—Non-Construction Programs (Approved under OMB 4040-0006) OR Budget Information—Construction Programs (Approved under OMB 4040-0008

27. Form SF-424B OR SF-424D, Assurances—Non-Construction Programs (4040-0007) or Assurances—Construction Programs (4040-0009)

28. Form SF-270, Request for Advance or Reimbursement (Approved under OMB 4040-0012)

29. Form SF-425, Federal Financial Report (Approved under OMB 4040-0014)

30. Form SF-425A, Federal Financial Report Attachment (Approved under OMB 4040-0014)

31. Form SF-424 (RR), Application for Federal Assistance (R&R) (Approved under OMB 4040-0001) (per response time includes time for other RR docs.)

32. Form SF-424 (RR), Research & Related Budget (Total Fed + Non-Fed Sheet) (Approved under OMB 4040-0001)

33. Form SF-424 (RR), R&R Subaward Budget (Fed/Non-Fed) Attachment(s) Form (Approved under OMB 4040-0001)

34. Form SF-424 (RR), Research and Related Senior/Key Person Profile (Approved under OMB 4040-0001)

35. Form SF-424 (RR), Project/Performance Site Location(s) Sheet (Approved under OMB 4040-0010)

36. Form SF-424 (RR), Research & Related Personal Data (Optional) (Approved under OMB 4040-0001)

37. Form SF-428, Tangible Personal Property Report (Approved under OMB 3090-0289) (per response time covers a, b, c, & s attachments)

38. Form SF-428-s, Tangible Personal Property Report—Supplemental Sheet (Approved under OMB 3090-0289)

39. Form SF-428-a, Tangible Personal Property Report—Annual Report (Approved under OMB 3090-0289)

40. Form SF-428-b, Tangible Personal Property Report—Final Report (Approved under OMB 3090-0289)

41. Form SF-428-c, Tangible Personal Property Report—Disposition Request/Report (Approved under OMB 3090-0289)

42. Form SF-429, Real Property Status Report (Approved under OMB 3090-0296)

Comments are invited on: (1) Whether the proposed collection of information is necessary for the proper performance of the functions of the agency, including whether the information will have practical utility; (2) the accuracy of the agency's estimate of the burden of the proposed collection of information including the validity of the methodology and assumptions used; (3) ways to enhance the quality, utility, and clarity of the information to be collected; and (4) ways to minimize the burden of the collection of information on those who are to respond, including the use of appropriate automated, electronic, mechanical, or other technological collection techniques or other forms of information technology. Comments may be sent to Chris Coppenbarger, Grants Management Officer, Office of the Chief Operating Officer, MS-3118, U.S. Department of Agriculture, 1400 Independence Ave. SW., Washington, DC 20250, Email: christopher.coppenbarger@fas.usda.gov. Persons with disabilities who require an alternative means for communication of information (e.g., Braille, large print, audiotape, etc.) should contact USDA's Target Center at (202) 720-2600 (voice and TDD).

All comments received will be available for public inspection during regular business hours at the same address.

All responses to this notice will be summarized and included in the request for OMB approval. All comments will become a matter of public record.

Signed at Washington, DC, on August 19, 2014.
Philip C. Karsting
Administrator, Foreign Agricultural Service.

[FR Doc. 2014-21890 Filed 9-12-14; 8:45 am]

BILLING CODE 3410-10-P